DEPARTMENT OF COMMERCE

Bureau of Industry and Security

Deemed Export Advisory Committee; Notice of Partially Closed Meeting

The Deemed Export Advisory Committee (DEAC) will meet in an open session on Monday, September 10, 2007 from 9 a.m.-11 a.m. in the main auditorium of the Herbert C. Hoover building, 14th Street & Pennsylvania Avenue, Washington, DC 20230. Registration will begin at 8:30 a.m. The HCHB is easily accessible from the Federal Triangle metro stop. Public parking is available for a fee in the Ronald Reagan International Trade Center across 14th street.

The DEAC is a Federal Advisory Committee established in accordance with the requirements of the Federal Advisory Committee Act, as amended, 5 U.S.C. app. 2. It advises the Secretary of Commerce on deemed export licensing policy. A tentative agenda of topics for discussion is listed below. While these topics will likely be discussed, this list is not exhaustive and there may be discussion of other related items during the public session.

September 10, 2007

Public Session

1. Introductory Remarks.

2. Current Deemed Export Control Policy Issues.

3. Technology Transfer Issues.

4. U.S. Industry Competitiveness.

5. U.S. Academic and Government Research Communities.

6. Industry, Academia and other Stakeholder Comments.

A limited number of seats will be available for the public session. Reservations will not be accepted. To the extent time permits, members of the general public may present oral statements to the DEAC. The general public may submit written statements at any time before or after the meeting. However, to facilitate distribution to DEAC members, BIS suggests that general public presentation materials or comments be forwarded before the meeting to Ms. Yvette Springer at Yspringer@bis.doc.gov.

September 10, 2007

Closed Session

The DEAC will also meet in a closed session on Monday, September 10, 2007, from approximately 11 a.m.-4:30 p.m. During the closed session, there will be discussion of matters determined to be exempt from the provisions relating to public meetings found in 5 U.S.C. app. 2 sections 10(a)(1) and 10(a)(3). The Assistant Secretary for Administration formally determined on September 20, 2007 pursuant to Section 10(d) of the Federal Advisory Committee Act, as amended (5 U.S.C. app. 2 section (10(d)), that the portion of the meeting concerning trade secrets and commercial or financial information deemed privileged or confidential as described in 5 U.S.C. 552b(c)(4), the portion of the meeting concerning matters the premature disclosure of which would be likely to significantly frustrate implementation of an agency action as described in 5 U.S.C. 552b(c)(9)(B), and the portion of the meeting dealing with matters that are (A) specifically authorized under criteria established by an Executive Order to be kept secret in the interests of national defense or foreign policy and (B) in fact properly classified pursuant to such Executive Order (5 U.S.C. 552b(c)(1)(A) and (10(B)), shall be exempt from the provisions relating to public meetings found in 5 U.S.C. app. 2 sections 10(a)(1) and 10(a)(3). All other portions of the DEAC meeting will be open to the public.

For more information, please call Yvette Springer at (202) 482-2813.

Dated: August 22, 2007.
Yvette Springer,
Committee Liaison Officer.

[FR Doc. 07-4185 Filed 8-24-07; 8:45 am]

BILLING CODE 3510-JT-M